DEPARTMENT OF THE INTERIOR

Fish and Wildlife Service

50 CFR Part 16

[FWS-R9-FHC-2008-0015; 94410-1342-0000-N3]

RIN 1018-AV68

Injurious Wildlife Species; Review of Information Concerning Constrictor Snakes From Python, Boa, and Eunectes genera

AGENCY: Fish and Wildlife Service, Interior.

ACTION: Notice of inquiry.

SUMMARY: We, the U.S. Fish and Wildlife Service (Service or We), are reviewing available biological and economic information on constrictor snakes in the Python, Boa and Eunectes genera for possible addition to the list of injurious wildlife under the Lacey Act. The importation and introduction of constrictor snakes into the natural ecosystems of the United States may pose a threat to the interests of agriculture, horticulture, forestry; to the health and welfare of human beings; and to the welfare and survival of wildlife and wildlife resources in the United States. An injurious wildlife listing would prohibit the importation into, or transportation between, States, the District of Columbia, the Commonwealth of Puerto Rico, or any territory or possession of the United States by any means, without a permit. Permits may be issued for scientific, medical, educational, or zoological purposes. This document seeks comments from the public to aid in determining if a proposed rule is warranted.

DATES: We will accept comments received or postmarked on or before April 30, 2008.

ADDRESSES: You may submit comments by one of the following methods:

• Federal eRulemaking Portal: http://www.regulations.gov. Follow the instructions for submitting comments.

• U.S. mail or hand-delivery: Public Comments Processing, Attn: RIN 1018-AV68, Division of Policy and Directives Management, U.S. Fish and Wildlife Service, 4401 North Fairfax Drive, Suite 222, Arlington, VA 22203.

Instructions: We will not accept e-mail or faxes. We will post all comments on http://www.regulations.gov. This generally means that we will post any personal information you provide us (see the Public Comments section below for more information).

FOR FURTHER INFORMATION CONTACT: Erin Williams, Branch of Invasive Species at (703) 358-2034 or erin_williams@fws.gov.

SUPPLEMENTARY INFORMATION: On September 21, 2006, we received a petition from the South Florida Water Management District (SFWMD) requesting that Burmese pythons be considered for inclusion in the injurious wildlife regulations pursuant to the Lacey Act (18 U.S.C. 42). SFWMD is concerned about the number of Burmese pythons found in Florida, particularly in the Everglades National Park. We are looking at obtaining information on constrictor species in the Python, Boa and Eunectes genera for possible addition to the injurious wildlife list under the Lacey Act.

The regulations contained in 50 CFR part 16 implement the Lacey Act, as amended. Under the terms of the injurious wildlife provisions of the Lacey Act, the Secretary of the Interior is authorized to prohibit the importation and interstate transportation of species designated by the Secretary as injurious. Injurious wildlife are those species, offspring, and eggs that are injurious or potentially injurious to wildlife and wildlife resources, to human beings, and to the interests of forestry, horticulture, or agriculture of the United States. Wild mammals, wild birds, fish, mollusks, crustaceans, amphibians, and reptiles are the only organisms that can be added to the injurious wildlife list. The lists of injurious wildlife are at 50 CFR 16.11-16.15. If the process initiated by this notice results in the addition of a species to the list of injurious wildlife contained in 50 CFR part 16, their importation into or transportation between States, the District of Columbia, the Commonwealth of Puerto Rico, or any territory or possession of the United States would be prohibited, except by permit for zoological, educational, medical, or scientific purposes (in accordance with permit regulations at 50 CFR 16.22), or by Federal agencies without a permit solely for their own use.

Public Comments

This notice of inquiry solicits biological, economic, or other data on adding species in the Python, Boa and Eunectes genera to the list of injurious wildlife. This information, along with other sources of data, will be used to determine if these species are a threat, or potential threat, to those interests of the United States delineated above, and thus warrant addition to the list of injurious reptiles in 50 CFR 16.15.

You may submit your comments and materials concerning this notice of inquiry by one of the methods listed in the ADDRESSES section. We will not accept comments sent by e-mail or fax or to an address not listed in the ADDRESSES section. We will not accept anonymous comments; your comment must include your first and last name, city, State, country, and postal (zip) code. Finally, we will not consider hand-delivered comments that we do not receive, or mailed comments that are not postmarked, by the date specified in the DATES section.

We will post your entire comment—including your personal identifying information—on http://www.regulations.gov. If you provide personal identifying information in addition to the required items specified in the previous paragraph, such as your street address, phone number, or e-mail address, you may request at the top of your document that we withhold this information from public review. However, we cannot guarantee that we will be able to do so.

Comments and materials we receive, as well as supporting documentation we used in preparing this notice of inquiry, will be available for public inspection on http://www.regulations.gov, or by appointment, during normal business hours, at the U.S. Fish and Wildlife Service, 4401 North Fairfax Drive, Arlington, VA 22203.

We are soliciting public comments and supporting data to gain additional information and specifically seek comment on the following questions:

(1) What regulations does your State have pertaining to the use, transport, or production of Python, Boa and Eunectes genera?

(2) How many species in the Python, Boa and Eunectes genera are currently in production for wholesale or retail sale, and in how many and which States?

(3) How many businesses sell Python, Boa or Eunectes species?

(4) How many businesses breed Python, Boa or Eunectes species?

(5) What are the annual sales for Python, Boa or Eunectes species?

(6) Please provide the number of Python, Boa or Eunectes species, if any, permitted within each State.

(7) What would it cost to eradicate Python, Boa or Eunectes individuals or populations, or similar species, if found?

(8) What are the costs of implementing propagation, recovery, and restoration programs for native species that are affected by Python, Boa or Eunectes species, or similar snake species?

(9) What State-listed species would be impacted by the introduction of Python, Boa or Eunectes species?

(10) What species have been impacted, and how, by Python, Boa or Eunectes species?

Dated: January 11, 2008.
Lyle Laverty,
Assistant Secretary for Fish and Wildlife and Parks.

[FR Doc. E8-1770 Filed 1-30-08; 8:45 am]

BILLING CODE 4310-55-P